DEPARTMENT OF THE INTERIOR

Bureau of Land Management

[MT-060-01-1020-PG]

Notice of Public Meeting; Central Montana Resource Advisory Council

AGENCY: Bureau of Land Management, Interior.

ACTION: Notice of Public Meeting.

SUMMARY: In accordance with the Federal Land Policy and Management Act and the Federal Advisory Committee Act of 1972, the U.S. Department of the Interior, Bureau of Land Management (BLM) Central Montana Resource Advisory Council (RAC) will meet as indicated below.

DATES: The meeting will be held December 14 & 15, 2004 at the BLM's Lewistown Field Office on Airport Road in Lewistown, Montana.

The December 14 meeting will begin at 1 p.m. with a 60-minute public comment period. The meeting is scheduled to adjourn at approximately 6 p.m.

The December 15 meeting will begin at 8 a.m. with a 30-minute public comment period. This meeting will also adjourn at approximately 3 p.m.

SUPPLEMENTARY INFORMATION: This 15-member council advises the Secretary of the Interior on a variety of management issues associated with public land management in Montana. At this meeting the council will discuss:

New Member Orientation;

Field Manager Updates;

Public Meetings Concerning 12 Natural Gas Leases Within the Monument;

The Preparation Plans for the West HiLine Resource Management Plan

Recreation Statistics for the Upper Missouri National Wild and Scenic River;

Non-Consensus Items for the Monument Resource Management Plan;

Recommendations for Travel Management Within the Monument

All meetings are open to the public. The public may present written comments to the RAC. Each formal RAC meeting will also have time allocated for hearing public comments. Depending on the number of persons wishing to comment and time available, the timer for individual oral comments may be limited.

FOR FURTHER INFORMATON CONTACT: Chuck Otto, Acting Lewistown Field Manager, Lewistown Field Office, Airport Road, Lewistown, Montana 59457, (406) 538-7461.

Dated: November 15, 2004.
Chuck Otto,
Acting Lewistown Field Manager.

[FR Doc. 04-25781 Filed 11-18-04; 8:45 am]

BILLING CODE 4310-$$-P